DEPARTMENT OF DEFENSE

Office of the Secretary

[Transmittal No. 17-06]

36(b)(1) Arms Sales Notification

AGENCY: Defense Security Cooperation Agency, Department of Defense.

ACTION: Notice.

SUMMARY: The Department of Defense is publishing the unclassified text of a section 36(b)(1) arms sales notification.

FOR FURTHER INFORMATION CONTACT: Kathy Valadez, (703) 697-9217 or Pamela Young, (703) 697-9107; DSCA/DSA-RAN.

SUPPLEMENTARY INFORMATION: This 36(b)(1) arms sales notification is published to fulfill the requirements of section 155 of Public Law 104-164 dated July 21, 1996. The following is a copy of a letter to the Speaker of the House of Representatives, Transmittal 17-06 with attached Policy Justification and Sensitivity of Technology.

Dated: May 23, 2017.
Aaron Siegel,
Alternate OSD Federal Register Liaison Officer, Department of Defense.

Transmittal No. 17-06

Notice of Proposed Issuance of Letter of Offer Pursuant to Section 36(b)( l ) of the Arms Export Control Act, as amended

(i) Prospective Purchaser: NATO Support and Procurement Agency (NSPA)

(ii) Total Estimated Value:

Major Defense Equipment * | $25.0 million
Other | $8.5 million
Total | $33.5 million

(iii) Description and Quantity or Quantities of Articles or Services under Consideration for Purchase:

The NATO Support and Procurement Agency requested the sale of AN/AAQ-24(V) Large Aircraft Infrared Countermeasures (LAIRCM) components to support the upgrade of the LAIRCM system on three C-17 aircraft, along with spares.

Major Defense Equipment (MDE):

Fourteen (14) Guardian Laser Terminal Assemblies (GLTA) (9 + 5 spares)

Six (6) LAIRCM System Processor Replacements (LSPR) (3 + 3 spares)

Non-MDE:

This request also includes contractor spares, consumables, support equipment, technical data, aircraft installation, flight test, certification, publications, training, program and logistics support services.

(iv) Military Department: Air Force

(v) Prior Related Cases, if any: K8-D-QAE

(vi) Sales Commission, Fee, etc., Paid, Offered. or Agreed to be Paid: None

(vii) Sensitivity of Technology Contained in the Defense Article or Defense Services Proposed to be Sold: See Attached Annex

(viii) Date Report Delivered to Congress: April 27, 2017

*as defined in Section 47(6) of the Arms Export Control Act.

POLICY JUSTIFICATION

NATO Support and Procurement Agency (NSPA)—Large Aircraft Infrared Countermeasures (LAIRCM) System Components

The NATO Support and Procurement Agency (NSPA) requested the sale of fourteen (14) Guardian Laser Transmitter Assemblies (GLTA) and six (6) LAIRCM System Processor Replacements (LSPR) along with contractor spares, consumables, support equipment, technical data, aircraft installation, flight test, certification, publications and training in order to upgrade the AN/AAQ-24(V) LAIRCM system on three (3) of its C-17 aircraft. The estimated total value is $33.5 million.

This proposed sale contributes to the foreign policy and national security of the United States by enhancing the aircraft self-protection capabilities of C-17 aircraft operated by the NATO Airlift Management (NAM) Programme, a consortium of 12 nations, including the United States. The partner nations in this program fly missions in and around Europe, Afghanistan, Iraq, the Levant, and North Africa. This sale an enhanced military capability for the NAM, and will assist its associated nations in providing airlift for personnel and equipment to locations requiring enhanced threat countermeasures.

The proposed sale advances U.S. and NATO policy goals of expanding the capabilities of strategic airlift to NATO allies and partners. The capabilities associated with this proposed sale bolster the military strength of the NATO alliance and its partners by increasing the self-protection capabilities of NAM airlift aircraft. NSPA will have no difficulty absorbing this equipment.

As these systems are defensive in nature, the proposed sale of this equipment and support will not alter the basic military balance in the region.

The prime contractor for production is Northrup Grumman of Rolling Meadows, Illinois. There are no known offset agreements proposed in connection with this potential sale.

Implementation of this proposed sale will not require the assignment of any additional U.S. Government or contractor representatives to NATO.

There will be no adverse impact to U.S. defense readiness as a result of this proposed sale.

Transmittal No. 17-06

Notice of Proposed Issuance of Letter of Offer Pursuant to Section 36(b)( l ) of the Arms Export Control Act

Annex Item

No. vii

(vii) Sensitivity of Technology:

1. The AN/AAQ-24V Large Aircraft Infrared Countermeasures (LAIRCM) is a self-contained, directed energy countermeasures system designed to protect aircraft from infrared-guided surface-to-air missiles. The system features digital technology and micro-miniature solid-state electronics. The system operates in all conditions, detecting incoming missiles and jamming infrared-seeker equipped missiles with aimed bursts of laser energy. The LAIRCM system components required to upgrade the system are the Guardian Laser Transmitter Assemblies (GLTA) and LAIRCM System Processor Replacement (LSPR). The upgraded LAIRCM for the C-17 uses three (3) GLTA and one (1) LSPR. LAIRCM system software, including Operational Flight Program is classified SECRET. Technical data and documentation to be provided are UNCLASSIFIED.

a. The LSPR component analyzes the data from each Missile Warning System Sensor and automatically deploys the appropriate countermeasure via the GLTA.

b. The GLTA uses aimed bursts of laser energy to jam infrared seeker equipped missiles when directed by the LSPR. The hardware is UNCLASSIFIED. The software is SECRET. Technical data and documentation to be provided are UNCLASSIFIED.

2. If a technologically advanced adversary were to obtain knowledge of the specific hardware and software elements, the information could be used to develop countermeasures or equivalent systems which might reduce system effectiveness or be used in the development of a system with similar or advanced capabilities.

3. This sale is necessary in furtherance of the U.S. foreign policy and national security objectives outlined in the Policy Justification. Moreover, the benefits to be derived from this sale, as outlined in the Policy Justification, outweigh the potential damage that could result if the sensitive technology were revealed to unauthorized persons.

4. All defense articles and services listed in this transmittal are authorized for release and export to the NATO Support and Procurement Agency, NATO Airlift Management Program pursuant to the NATO C-17 SAC MOU.

[FR Doc. 2017-10898 Filed 5-25-17; 8:45 am]

BILLING CODE 5001-06-P